DEPARTMENT OF THE INTERIOR

National Park Service

General Management Plan/Wilderness Study, Final Environmental Impact Statement, Great Sand Dunes National Park and Preserve, Colorado

AGENCY: National Park Service, Department of the Interior.

ACTION: Notice of availability of a record of decision on the Final Environmental Impact Statement for the General Management Plan/Wilderness Study, Great Sand Dunes National Park and Preserve.

SUMMARY: Pursuant to the National Environmental Policy Act of 1969, 42 U.S.C. 4332(2)(C), the National Park Service announces the availability of the Record of Decision for the General Management Plan, Great Sand Dunes National Park and Preserve, Colorado. On July 19, 2007, the Regional Director, Intermountain Region approved the Record of Decision for the project. As soon as practicable, the National Park Service will begin to implement the Preferred Alternative contained in the FEIS issued on June 15, 2007. The NPS preferred alternative was developed with substantial public, interagency, and staff participation between 2002 and 2006. The NPS preferred option includes options for new trails to allow for dispersed hiking and horseback riding and educational opportunities on the expansion lands. Cooperative or joint facilities, such as future access routes and trailheads with the U.S. Forest Service, U.S. Fish and Wildlife Service, and private partners are emphasized. A large portion of the park expansion lands was studied and will be recommended for future wilderness designation. Additional wilderness in the Great Sand Dunes National Park was very popular with the public.

This course of action and three alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding of no impairment of park resources and values, a listing of measures to minimize environmental harm, an overview of public involvement in the decision-making process, and a Statement of Findings.

FOR FURTHER INFORMATION CONTACT: Art Hutchinson, Superintendent, Great Sand Dunes National Park and Preserve, 11500 Highway 150, Mosca, CO 81146-9798, phone: (719) 378-6311.

SUPPLEMENTARY INFORMATION: Copies of the Record of Decision may be obtained from the contact listed above or online at http://parkplanning.nps.gov.

Dated: August 9, 2007.
Michael D. Snyder,
Director, Intermountain Region, National Park Service.

[FR Doc. E7-16994 Filed 8-27-07; 8:45 am]

BILLING CODE 4312-CL-P